ELECTION ASSISTANCE COMMISSION

Information Collection Activity; Proposed Information Collection; Comment Request

AGENCY: U.S. Election Assistance Commission (EAC).

ACTION: 30-Day Notice of Information Collection Under Review.

SUMMARY: The U.S. Election Assistance Commission has submitted the following information collection request to the Office of Management and Budget (OMB) for review and clearance in accordance with the Paperwork Reduction Act of 1995. The information collection was previously published in the Federal Register on August 1, 2006, at 71 FR 43477. The notice allowed for a 60-day public comment period. Fourteen comments were received on this information collection, and modifications were made to improve and clarify the information collection based on those comments. The purpose of this notice is to allow an additional 30 days for public comments. Comments are encouraged and will be accepted until November 27, 2006. This process is conducted in accordance with 5 CFR 1320.10. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Written comments must be submitted on or before November 27, 2006.

ADDRESSES: Written comments and recommendations on the proposed information collection should be sent to: OMB Reviewer: Alexander T. Hunt, Office of Management and Budget, Room 10235, New Executive Office Building, Washington, DC 20503, (202) 395-7316.

FOR FURTHER INFORMATION CONTACT: To request more information on this proposed information collection or to obtain a copy of the proposal and associated collection instruments, please, write to the above address or call Mrs. Juliet Thompson-Hodgkins or Ms. Laiza N. Otero at (202) 566-3100.

SUPPLEMENTARY INFORMATION: Title and OMB Number: 2006 Election Administration and Voting Survey; OMB Number Pending.

Needs and Uses: This proposed information collection activity is necessary to meet requirements of the Help America Vote Act (HAV) of 2002 (42 U.S.C. 15301). Section 241 of HAVA requires the EAC to study and report on election activities, practices, policies, and procedures, including methods of voter registration, methods of conducting provisional voting, poll worker recruitment and training, and such other matters as the Commission determines are appropriate. In addition, HAVA transferred to the EAC the Federal Election Commission's responsibility of biennially administering a survey on the impact of the National Voter Registration Act (NVRA). The information the States are required to submit to the EAC for purposes of the NVRA report are found under Title 11 of the Code of Federal Regulations (Chapter 1, Part 8, Subchapter C). HAVA § 703(a) also amended the Uniformed and Overseas Citizens Absentee Voters Act by requiring that “not later than 90 days after the date of each regularly scheduled general election of Federal office, each State and unit of local government which administered the election shall (through the State, in the case of a unit of local government) submit a report to the Election Assistance Commission (established under the Help American Vote Act of 2002) on the combined number of absentee ballots transmitted to absent uniformed services voters and overseas for the election and the combined number of such ballots which were returned by such voters and cast in the election, and shall make such a report available to the general public.” In order to fulfill these requirements and to provide a complete report to Congress, the EAC is seeking information relating to the period from the close of registration for the November 2, 2004, Federal general election until the close of registration for the November 7, 2006, Federal general election, and information from the November 7, 2006, Federal general election.

Affected Public: State government.

Number of Respondents: 55.

Responses per Respondent: 1.

Estimated Burden Per Response: 115.07 hours.

Estimated Total Annual Burden Hours: 6,328.85 hours.

Frequency: Biennially.

Thomas R. Wilkes,
Executive Director, U.S. Election Assistance Commission.

[FR Doc. 06-8967 Filed 10-30-06; 8:45 am]

BILLING CODE 6820-KF-M